DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of March and April 2003.

In order for an affirmative determination to be made and a certification of eligibility to apply for worker adjustment assistance to be issued, each of the group eligibility requirements of section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

TA-W-41,765; Regal Plastics, LLC, Roseville, MI

In the following case, the investigation revealed that the criteria for eligibility have not been met for the reasons specified.

The investigation revealed that criterion (a)(2)(A) (I.B) (No sales or production decline and (a)(2)(B) (II.B) (No shift in production to a foreign country) have not been met.

TA-W-51,313; Fishing Vessel (F/V) Nanesse, Skagway, AK

TA-W-51,107; Halex/Scott Fetzer Co., Bedford Heights, OH

The investigation revealed that criteria (b)(3) has not been met. The workers' firm (or subdivision) is not an supplier or downstream producer to a firm (or subdivision) for trade-affected companies.

TA-W-51,080; H and L Tool Co., Erie, PA

The investigation revealed that criterion (a)(2)(A) (I.C.) (Increased imports) and (a) (2)(B) (II.B) (No shift in production to a foreign country) have not been met.

TA-W-50,836; Fishing Vessel (F/V) The Fox, Metlakatla, AK

TA-W-50,429; Universal Electronics, Inc., Menomonee Falls, WI

TA-W-50,496; U.S. Manufacturing Corp., Fraser, MI

TA-W-50,810; Deltech Polymers Corp., Troy, OH

TA-W-50,784; Sara Lee Hosiery, Rockingham, NC

TA-W-51,084; Gilinsky Logging, Inc., Rogue River, OR

TA-W-51,132; 4-C's Fisheries, Kodiak, AK

TA-W-50,511; Johns Manville, Parkersburg Plant, Vienna, WV

TA-W-50,549; Sweetheart Cup Co., Lafayette Div., Lafayette, GA

TA-W-50,657; Hewlett Packard Co., Supply Chain Div., Swedesboro, NJ

TA-W-50,926; Hartford Compressors, Inc., West Hartford, CT

TA-W-51,303; Pryor Fish Camp, Kodiak, AK

The workers firm does not produce an article as required for certification under Section 222 of the Trade Act of 1974.

TA-W-50,874; Ocwem Federal Bank, West Palm Beach, FL

TA-W-51,216; Lexmark International, Inc., Orlando, FL

TA-W-51,200; Synopsys, Inc., Hillsboro, OR

TA-W-51,109; Worldcom Payroll Services, LLC, Hunt Valley, MD

TA-W-50,740; Argus Services, Inc., Libby, MT

TA-W-51,053; Eastman Kodak Co., Oakdale, MN

TA-W-50,952; Trinity Industries, Inc., McKees Rocks, PA

TA-W-50,880; Savane International Corp., Santa Teresa, NM

TA-W-51,281; First Source Furniture Group LLC, Corporate

Support Center, Nashville, TN

TA-W-50,915; Techbooks, York, PA

TA-W-51,140; Verizon Communications, Verizon Data Services, Temple Terrace, FL

TA-W-51,077; Advanced Technology Services, Inc., Mt. Clemens, MI

The investigation revealed that criterion (a)(2)(A) (I.A) (no employment declines) has been met.

TA-W-51,302; Fishing Vessel (F/V) Chasina Bay, Ketchikan, AK

TA-W-50,753; Fishing Vessel (F/V) Lynn & Michelle, Monokotak, AK

TA-W-51,312; Fishing Vessel (F/V) Travis G, Manokotak, AK

TA-W-51,102; Pozzi Windows, Div of Jeld-Wen, Inc., Bend OR

TA-W-51,134; Vanity Fair, Jeans Wear Div., Windsor, NC

TA-W-51,308; State of Alaska Commercial Fisheries Entry Commission Permit #SO4T60318C, Manokotak, AK

The investigation revealed that criterion (a)(2)(A) (I.B) (sales or production, or both did not decline) and (a)(2)(A) (II.B) (no shift in production to a foreign country) have not been met.

TA-W-50,838; Fishing Vessel (F/V) Windy Sea, Kodiak, AK

TA-W-51,234; HP Pelzer, Thompson, GA

The investigation revealed that criterion (a)(2)(A) (I.C.) (Increased imports) and (a)(2)(B) (No shift in production to a foreign country) have not been met.

TA-W-50,945; Chem-Fab Corp., Hot Springs, AR

Affirmative Determinations for Worker Adjustment Assistance

The following certifications have been issued; the date following the company name and location of each determination references the impact date for all workers of such determination.

TA-W-42,180; Hy-Lift, LLC, Muskegon, MI: September 17, 2001.

TA-W-42,360; Precision Twist Drill Co., Rhinelander, WI: September 16, 2001.

The following certifications have been issued. The requirements of (a)(2)(A) (increased imports) of Section 222 have been met.

TA-W-50,727; United Defense, LP, Ground Systems Div., York, PA: January 28, 2002 TA-W-50,854; Reitz Tool, Inc., Cochranton, PA: February 10, 2002.

TA-W-50,158; Stewart Apparel, Inc., Greensboro, GA: March 6, 2002.

TA-W-50,732 &A; Oneida Limited, Silversmiths Div., Sherrill, NY and Headquarters, Oneida, NY: December 10, 2001.

TA-W-50,197; Williamsport Wirerope Works, Inc., Williamsport, PA: November 22, 2001

TA-W-50,808; Thomson Industries, Inc., Port Washington, NY: December 31, 2001.

TA-W-50,820; Lapp Insulator Co. LLC, Substation Div., Leroy, NY: November 7, 2001.

TA-W-50,845; Vishay Dale Electronics, Inc., Standard Products Dept., Norfolk, NE: February 7, 2002.

TA-W-050,968; Manitowoc Cranes, a Div, of Manitowoc Co., Inc., Manitowoc, WI: February 21, 2002.

TA-W-51,070; New World Pasta Co., Louisville, KY: February 27, 2002.

The following certifications have been issued. The requirements of (a)(2)(B) (shift in production) of Section 222 have been met.

TA-W-51,090; Liberty West, Wilsonville, OR: March 6, 2002.

TA-W-50,575; ITT Industries, Inc., Fluid Handling Systems, Rochester, NY: January 7, 2002.

TA-W-51,306; State of Alaska Commercial Fisheries Entry Commission Permit #SO4T59828F, Manokotak, AK: March 21, 2002.

TA-W-50,305; State of Alaska Commercial Fisheries Entry Commission Permit #SO4T64733Q, Manokotak, AK: March 21, 2002.

TA-W-50,946; Sara Lee Intimate Apparel, Statesville, NC: February 11, 2002.

TA-W-50,912; Kroehler Furniture Manufacturing Co., Inc., Sewing Div., Conover, NC: February 5, 2002.

TA-W-51,146; Garan, Inc., Church Point, LA: March 12, 2002.

TA-W-50,739; Canron Construction Corp., Canron East, Conklin, NY: January 29, 2002.

TA-W-50,939; J-Sports, Inc., Caryville, TN: February 14, 2002.

TA-W-50,954; Eaton Corp., Fluid Power Group, Global Hose Div., including leased workers of Holland Employment Agency, Norwood, NC: February 13, 2002.

TA-W-50,972; Ontario Die International of Tennessee, Lebanon, TN: February 11, 2002.

TA-W-51,088; Farley's and Sathers Candy Co., Inc., Brooklyn, NY: February 26, 2002.

TA-W-51,178; My Room, Inc., Lawrenceville, VA: March 12, 2002.

TA-W-51,249; OSRAM SYLVANIA Products, Inc., Bangor, ME: March 20, 2002

TA-W-51,063; Ingersoll-Rand Security and Safety, including leased workers of Adecco, Inc., Security, CO: February 10, 2002.

TA-W-50,558; PCC Olofsson, a Div. of Precision Castparts Corp., Lansing, MI: January 9, 2002.

Also, pursuant to Title V of the North American Free Trade Agreement Implementation Act (Pub. L. 103-182) concerning transitional adjustment assistance hereinafter called (NAFTA-TAA) and in accordance with section 250(a), subchaper D, chapter 2, title II, of the Trade Act as amended, the Department of Labor presents summaries of determinations regarding eligibility to apply for NAFTA-TAA issued during the month of March and April 2003.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

None.

The investigation revealed that the criteria for eligibility have not been met for the reasons specified.

The investigation revealed that the workers of the subject firm did not produce an article within the meaning of Section 250(a) of the Trade Act, as amended.

None.

Affirmative Determinations NAFTA-TAA

None.

I hereby certify that the aforementioned determinations were issued during the month of March and April 2003. Copies of these determinations are available for inspection in Room C-5311, U.S. Department of Labor, 200 Constitution Avenue, NW., Washington, DC 20210 during normal business hours or will be mailed to persons who write to the above address.

Dated: April 4, 2003.
Edward A. Tomchick,
Director, Division of Trade Adjustment Assistance.

[FR Doc. 03-8915 Filed 4-10-03; 8:45 am]

BILLING CODE 4510-30-P